DEPARTMENT OF THE INTERIOR

Fish and Wildlife Service

Issuance of Permits

AGENCY: Fish and Wildlife Service, Interior.

ACTION: Notice of issuance of permits for endangered species and marine mammals.

SUMMARY: The following permits were issued.

ADDRESSES: Documents and other information submitted with these applications are available for review, subject to the requirements of the Privacy Act and Freedom of Information Act, by any party who submits a written request for a copy of such documents to: U.S. Fish and Wildlife Service, Division of Management Authority, 4401 North Fairfax Drive, Room 700, Arlington, Virginia 22203; fax (703) 358-2281.

FOR FURTHER INFORMATION CONTACT: Division of Management Authority, telephone 703/358-2104.

SUPPLEMENTARY INFORMATION: Notice is hereby given that on the dates below, as authorized by the provisions of the Endangered Species Act of 1973, as amended (16 U.S.C. 1531, et seq.), and/or the Marine Mammal Protection Act of 1972, as amended (16 U.S.C. 1361, et seq.), the Fish and Wildlife Service issued the requested permits subject to certain conditions set forth therein. For each permit for an endangered species, the Service found that (1) the application was filed in good faith, (2) the granted permit would not operate to the disadvantage of the endangered species, and (3) the granted permit would be consistent with the purposes and policy set forth in Section 2 of the Endangered Species Act of 1973, as amended.

Endangered Species
Permit No. | Applicant | Receipt of application Federal Register notice | Permit issuance date
08754 | Sierra Endangered Cat Haven | 69 FR 51703, August 20, 2004 | October 7, 2004.
090181 | Nashville Zoo | 69 FR 51702, August 20, 2004 | October 7, 2004.
090035 | Wildlife Conservation Society | 69 FR 51702, August 20, 2004 | September 28, 2004.
089828 | Cincinnati Zoo and Botanical Garden | 69 FR 51702, August 20, 2004 | September 28, 2004.
088784 | Gibbon Conservation Center | 69 FR 51703, August 20, 2004 | October 7, 2004.

Endangered Marine Mammals and Marine Mammals
Permit No. | Applicant | Receipt of application Federal Register notice | Permit issuance date
063561 | Florida Atlantic University | 68 FR 69418; December 12, 2003 | November 6, 2004.
072586 | Boone and Crockett Club | 69 FR 13329; March 22, 2004 | June 22, 2004.
078744 | Randall Davis | 69 FR13329; March 22, 2004 | November 6, 2004.
081115 | Seward Association, dba Alaska SeaLife Center | 69 FR 3386; January 23, 2004 | September 7, 2004.
088944 | National Museum of the American Indian | 69 FR 40965; July 7, 2004 | September 9, 2004.

Dated: October 15, 2004.
Monica Farris,
Senior Permit Biologist, Branch of Permits, Division of Management Authority.

[FR Doc. 04-24082 Filed 10-27-04; 8:45 am]

BILLING CODE 4310-55-P